Title 3—

The President

Proclamation 9199 of October 31, 2014

Critical Infrastructure Security and Resilience Month, 2014

By the President of the United States of America

A Proclamation

Essential to our national security and economic growth, America's critical infrastructure—from our power plants and pipelines to our hospitals and highways—supports the physical and virtual systems that underpin American society. In a changing world, the increased interdependence of our country's most vital resources and networks has created new opportunities for growth and innovation, but it has also led to greater risk and vulnerability. During Critical Infrastructure Security and Resilience Month, we reflect on the important role our infrastructure plays in building a safe and prosperous Nation, and we recommit to strengthening and protecting these important assets.

The security of our Nation is my top priority, and my Administration is dedicated to preserving and fortifying the systems that support our daily lives. Guided by our Cybersecurity Framework, we are working to protect our critical infrastructure from cyber threats, while promoting an open and reliable cyberspace. In the face of a diverse set of physical risks to our infrastructure—from extreme weather and the impacts of climate change to health pandemics, accidents, and acts of terrorism—we are taking steps to reduce our vulnerabilities. And because the majority of our critical infrastructure is owned and operated by private companies, we are encouraging the private sector to recognize their shared responsibility. As part of our National Infrastructure Protection Plan, we are finding new ways we can strengthen our public-private partnerships to bolster our systems and networks and to better manage risks.

While we cannot always predict the ways in which our infrastructure will be tested, by harnessing an integrated approach to a range of threats and modernizing our cyber and physical infrastructure, we can ensure that one event does not compromise the stability of our entire system. When we invest in 21st century infrastructure, we not only increase our resilience, but also create jobs and expand opportunity for hardworking Americans. That is why earlier this year we launched the Build America Investment Initiative to improve our roads, water systems, electrical grid, and other vital systems. By encouraging innovative financing and increased public-private collaboration, we can build a revitalized, efficient, and secure American infrastructure.

In today's interconnected world, we must all remain dedicated to identifying and deterring threats and hazards to our Nation's critical infrastructure and to mitigating the consequences of incidents that do occur. This month, let us resolve to safeguard and strengthen the systems we rely on every day and to support first-class infrastructure that can sustain America's role as a leader on the world stage.

NOW, THEREFORE, I, BARACK OBAMA, President of the United States of America, by virtue of the authority vested in me by the Constitution and the laws of the United States, do hereby proclaim November 2014 as Critical Infrastructure Security and Resilience Month. I call upon the people of the United States to recognize the importance of protecting our Nation's resources and to observe this month with appropriate events and training to enhance our national security and resilience.

IN WITNESS WHEREOF, I have hereunto set my hand this thirty-first day of October, in the year of our Lord two thousand fourteen, and of the Independence of the United States of America the two hundred and thirty-ninth.

[FR Doc. 2014-26471

Filed 11-4-14; 11:15 am]

Billing code 3295-F5